DEPARTMENT OF DEFENSE

Department of the Navy

Notice of Intent to Grant Exclusive Patent License; Large Scale Biology, Inc.

AGENCY: Department of the Navy, DOD.

ACTION: Notice.

SUMMARY: The Department of the Navy hereby gives notice of its intent to grant to Large Scale Biology, Inc., a revocable, nonassignable, exclusive license to practice worldwide the Government-owned inventions described in U.S. Patent No. 5, 599,703, entitled “In Vitro Amplification/Expansion of CD34+ Stem and Progenitor Cells” issued February 4, 1997, and its PCT serial number US94/12385 in the field of PMVEC/Hematopoietic stem cell co-culture conditioned media system.

DATE: Anyone wishing to object to the grant of this license has fifteen (15) days from the date of this notice to file written objections along with supporting evidence, if any.

ADDRESSES: Written objections are to be filed with the Office of Technology Transfer, Naval Medical Research Center, 503 Robert Grant Ave., Silver Spring, MD 20910-7500.

FOR FURTHER INFORMATION CONTACT: Dr. Charles Schlagel, Director, Office of Technology Transfer, Naval Medical Research Center, 503 Robert Grant Ave., Silver Spring, MD 20910-7500, telephone (301) 319-7428 or E-Mail at schlagelc@nmrc.navy.mil.

Dated: March 12, 2002.
T. J. Welsh,
Lieutenant Commander, Judge Advocate General's Corps, U.S. Navy, Federal Register Liaison Officer.

[FR Doc. 02-6528 Filed 3-18-02; 8:45 am]

BILLING CODE 3810-FF-M